DEPARTMENT OF TRANSPORTATION

National Highway Traffic Safety Administration

[Docket No. NHTSA-2021-0025; Notice 1]

Combi USA, Receipt of Petition for Decision of Inconsequential Noncompliance

AGENCY: National Highway Traffic Safety Administration (NHTSA), Department of Transportation (DOT).

ACTION: Receipt of petition.

SUMMARY: Combi USA (Combi), has determined that certain Combi USA BabyRide rear-facing child restraint systems manufactured between March 1, 2016, and September 2, 2019, do not fully comply with Federal Motor Vehicle Safety Standard (FMVSS) No. 213, Child Restraint Systems. Combi filed an original noncompliance report dated March 8, 2021, and later amended it on March 10, 2021, and March 11, 2021. Subsequently, Combi petitioned NHTSA on March 30, 2021, for a decision that the subject noncompliance is inconsequential as it relates to motor vehicle safety. This notice announces receipt of Combi's petition.

DATES: Send comments on or before May 24, 2021.

ADDRESSES: Interested persons are invited to submit written data, views, and arguments on this petition. Comments must refer to the docket and notice number cited in the title of this notice and submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal holidays.

• Electronically: Submit comments electronically by logging onto the Federal Docket Management System (FDMS) website at https://www.regulations.gov/. Follow the online instructions for submitting comments.

• Comments may also be faxed to (202) 493-2251.

Comments must be written in the English language and be no greater than 15 pages in length, although there is no limit to the length of necessary attachments to the comments. If comments are submitted in hard copy form, please ensure that two copies are provided. If you wish to receive confirmation that the comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the docket. The docket ID number for this petition is shown in the heading of this notice.

DOT's complete Privacy Act Statement is available for review in a Federal Register notice published on April 11, 2000 (65 FR 19477-78).

FOR FURTHER INFORMATION CONTACT: Kelley Adams-Campos, Safety Compliance Engineer, NHTSA, Office of Vehicle Safety Compliance, kelley.adamscampos@dot.gov .

SUPPLEMENTARY INFORMATION:

I. Overview

Combi has determined that certain Combi USA BabyRide rear-facing child restraint systems manufactured between March 1, 2016, and September 2, 2019, do not fully comply with the requirements of paragraph S5.4.1.2(a) of FMVSS No. 213, Child Restraint Systems (49 CFR 571.213). Combi filed an original noncompliance report dated March 8, 2021, and later amended it on March 10, 2021, and March 11, 2021, pursuant to 49 CFR part 573, Defect and Noncompliance Responsibility and Reports. Combi subsequently petitioned NHTSA on March 30, 2021, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Combi's petition is published under 49 U.S.C. 30118 and 30120 and does not represent any Agency decision or other exercise of judgment concerning the merits of the petition.

II. Child Restraint Systems Involved

Approximately 13,880 Combi USA BabyRide rear-facing child restraint systems with model number 378099, manufactured between March 1, 2016, and September 2, 2019, are potentially involved.

III. Noncompliance

Combi explains that the noncompliance is that the subject rear-facing child restraint systems are equipped with 25-mm-wide webbing used in the center front harness adjuster that does not comply with the minimum breaking strength requirements as required in paragraph S5.4.1.2(a) of FMVSS No. 213. Specifically, the subject child restraint systems have an initial breaking strength of between 9,622 N and 10, 136 N (median load 9,871 N), which is less than the required minimum breaking strength of 11,000 N.

IV. Rule Requirements

Paragraph S5.4.1.2(a) of FMVSS No. 213 includes the requirements relevant to this petition. The webbing of belts provided with a child restraint system and used to attach the system to the vehicle or to restrain the child within the system shall have a minimum breaking strength for new webbing of not less than 15,000 N in the case of webbing used to secure a child restraint system to the vehicle, including the tether and lower anchorages of a child restraint anchorage system, and not less than 11,000 N in the case of the webbing used to secure a child to a child restraint system when tested in accordance with paragraph S5.1 of FMVSS No. 209. Each value shall be not less than the 15,000 N and 11,000 N applicable breaking strength requirements, but the median value shall be used for determining the retention of breaking strength in paragraphs (b)(1), (c)(1), and (c)(2) of paragraph S5.4.1.2. “New webbing” means webbing that has not been exposed to abrasion, light, or micro-organisms as specified elsewhere in FMVSS No. 213..

V. Summary of Combi's Petition

The following views and arguments presented in this section, “V. Summary of Combi's Petition,” are the views and arguments provided by Combi. They have not been evaluated by the Agency and do not reflect the views of the Agency. Combi describes the subject noncompliance and contends that the noncompliance is inconsequential as it relates to motor vehicle safety.

In support of its petition, Combi submitted the following reasoning:

1. Combi has not received any reports from consumers related to the strength of the 25-mm-wide webbing in the BabyRide infant car seat.

2. The BabyRide with the 25-mm-wide webbing at issue complies with dynamic testing requirements of FMVSS No. 213, paragraph S5.1, in testing conducted by both NHTSA and Combi between 2016 and 2019. This includes testing with the 12-month-old CRABI ATD that represents the heaviest child that the BabyRide infant car seat is used with.

3. The actual webbing strength of the 25-mm-wide webbing far exceeds the strength needed for the application of an infant car seat used with children 10 kg (22 lbs.) or less.

a. Load applied during dynamic testing

i. When tested with the 12-month-old CRABI ATD that weighs 22 lbs., representing the maximum weight occupant for the car seat, the maximum load that the 25-mm-wide webbing is subjected to during an FMVSS No. 213 compliance crash test is 302.9 N.

ii. Combi believes that the peak loading of the 25-mm-wide webbing when dynamically tested per FMVSS No. 213 with the 12-month-old CRABI ATD and represented in the 2021 test conducted by UMTRI in Test Report No. AG2101 represents the maximum load applied to the 25-mm-wide webbing in all Combi USA BabyRide infant car seats. Combi bases that belief on the total belt load applied to the vehicle lap belt and LATCH belt recorded in the 2016 UMTRI and 2021 UMTRI testing with the 12-month-old ATD. The total vehicle lap belt load recorded in the 2021 test (AG2101) of 4206 N (945.6 lbs.) is consistent with the total vehicle lap belt and LATCH belt loading recorded in the 2016 tests conducted by UMTRI with the 12-month-old ATD of 4,067.2 N (851.4 lbs.) in Test TT1603 and 3,989.1 N (896.8 lbs.) in Test TT1604.

iii. The maximum load measured in the 25-mm-wide webbing in the BabyRide infant car seat is much lower than the total load applied to the vehicle lap belt and LATCH belt as the car seat is for rear-facing use only and for use with a child weighing 10 kg (22 lb.) or less. In a rear-facing car seat, a significant portion of the load from the ATD during the dynamic test is transferred and supported by the seatback, thus reducing the maximum load applied to the harness system including the 25-mm-wide webbing.

b. FMVSS No. 213 S5.4.1.2(a) Minimum breaking strength of original webbing

i. The initial breaking strength of the 25-mm-wide webbing in NHTSA and Combi's testing is between 9,266 N and 10,126 N.

ii. Based on test reports collected in response to a request for information from NHTSA's Office of Vehicle Safety Compliance,¹ all production testing for the 25-mm-wide webbing from 2016 through 2019 measured between 9,600 N to 9,900 N.

¹ In their petition, Combi mistakenly referred to the Office of Vehicle Safety Compliance as the Office of Defects Investigation.

c. FMVSS No. 213 S5.4.1.2(b)(1) Webbing strength after abrasion

i. The breaking strength of the 25-mm-wide webbing after abrasion in the Combi testing was an average of 8,047 N or 86.7 percent of the original breaking strength.

ii. As the breaking strength of the 25-mm-wide webbing after abrasion is 86. 7 percent of the original breaking strength, the webbing complies with requirements in S5.4.1.2(b)(l) of FMVSS No. 213, which requires the webbing have a breaking strength of not less than 75 percent of the new webbing strength.

d. FMVSS No. 213 S5.4.1.2(c)(l) Webbing strength after exposure to light

i. The breaking strength after exposure to light of the 25-mm-wide webbing tested by NHTSA averages 9,752 N or 98.8 percent of the original breaking strength.

ii. As the breaking strength of the 25-mm-wide webbing after exposure to light is 98.8 percent of the original breaking strength, the webbing complies with requirements in paragraph S5.4.1.2(c)(l) of FMVSS No. 213 which requires the webbing have a breaking strength of not less than 60 percent of the new webbing.

4. FMVSS No. 213 regulates child restraint systems and the webbing used in those restraint systems for use with children weighing up to 36 kg (80 lbs.). The minimum strength requirements defined in paragraph S5.4.1.2 of FMVSS No. 213 for harness belts used in all child restraint systems for use with children 36 kg (80 lbs.) or less, including infant-only restraint systems, are listed below.

a. S5.4.1.2(a) Minimum breaking strength for new webbing

i. Minimum breaking strength of not less than 11,000 N.²

² In their petition, Combi mistakenly referred to the minimum breaking strength for new webbing as the median breaking strength for new webbing.

b. S5.4.1.2.(b) Minimum breaking strength after abrasion

i. Median breaking strength webbing after abrasion of not less than 75 percent of the new webbing strength. Based on the 11,000 N minimum strength for new webbing, at least 8,250 N after abrasion.

ii. The median breaking strength of the 25-mm webbing used in the BabyRide after abrasion is 8,047 N, or 2.5 percent less than the minimum allowed for all child restraints, including those designed for children up to 80 lbs.

c. S5.4.1.2(b) Minimum breaking strength after exposure to light

i. Median breaking strength after exposure to light of not less than 60 percent of the new webbing strength or based on the 11,000 N minimum strength for new webbing, at least 6,600 N after exposure to light.

ii. The breaking strength of the 25-mm webbing used in the BabyRide is 47.7 percent greater than the minimum breaking strength allowed for all child restraints after exposure to light, including those designed for children up to 80 lbs.

5. Combi has reviewed the harness webbing specifications defined in FMVSS No. 213 and notes the following:

a. Harness webbing as specified in FMVSS No. 213 is for webbing for use with children up to 80 lbs. (36 kg). The webbing specified is sufficiently strong to restrain an 80 lb. occupant when forward-facing.

b. The BabyRide car seat is an infant car seat, which is used rear-facing only with infants 22 lbs. (10 kg) or less. Rear-facing infant car seats provide restraint of the infant primarily by supporting the infant's head and back on the seatback support surface of the restraint and additionally by the harness system. The loads carried by the seatback support surface significantly reduce the loading experienced by the harness webbing and center front adjuster webbing as shown in the UMTRI test AG2101. That load is significantly lower than the harness and center front adjuster webbing used in a forward-facing restraint system that is used up to 80 lbs.

c. Rear-facing use of the BabyRide car seat with children 22 lbs. or less will subject the harness belts and adjuster belt to only a small percentage of the load applied when forward-facing with an occupant weighing 80 lbs.

i. During a rear-facing test, the test AG2101 shows that the maximum load applied to the 25-mm-wide webbing was 302.9 N.

6. Combi believes that the initial minimum breaking strength of 11,000 N is much higher than the strength needed for a rear-facing car seat like the BabyRide, even when occupied by a child at the maximum weight, and that the 25-mm-wide webbing used in the BabyRide exceeds the forces applied in a crash.

Combi concludes that the subject noncompliance is inconsequential as it relates to motor vehicle safety and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject child restraint systems that Combi no longer controlled at the time it determined that the noncompliance existed. However, any decision on this petition does not relieve equipment distributors and dealers of the prohibitions on the sale, offer for sale, or introduction or delivery for introduction into interstate commerce of the noncompliant child restraint systems under their control after Combi notified them that the subject noncompliance existed.

Authority: 49 U.S.C. 30118, 30120: delegations of authority at 49 CFR 1.95 and 501.8.

Otto G. Matheke III,
Director, Office of Vehicle Safety Compliance.

[FR Doc. 2021-08329 Filed 4-21-21; 8:45 am]

BILLING CODE 4910-59-P